NATIONAL SCIENCE FOUNDATION

Special Emphasis Panel in Information and Intelligent Systems; Notice of Meeting

In accordance with the Federal Advisory Committee Act (Pub. L. 92-463, as amended), the National Science Foundation (NSF) announces the following meeting.

Name: Special Emphasis Panel in Information and Intelligent System (1200).

Date and Time: October 24, 2000, 8:30 a.m.-5:00 p.m.

Place: National Science Foundation, Room 1120, 4201 Wilson Blvd., Arlington, VA.

Type of Meeting: Closed.

Contact Person: Ephraim Glinert, Deputy Division Director, Division of Information and Intelligent Systems, Room 1115, National Science Foundation, 4201 Wilson Boulevard, Arlington, Va 22230, Telephone: (703) 292-8930.

Purpose of Meeting: To provide advice and recommendations concerning proposals submitted to NSF for financial support.

Agenda: To review and evaluate Human and Computer Interaction Career proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: September 27, 2000.
Karen J. York,
Committee Management Officer.

[FR Doc. 00-25189 Filed 9-29-00; 8:45 am]

BILLING CODE 7555-01-M